ENVIRONMENTAL PROTECTION AGENCY

[EPA-HQ-OW-2006-0408; FRL-9786-7]

Proposed Information Collection Request; Comment Request; EPA's WaterSense Program (Renewal); EPA ICR No. 2233.06

AGENCY: Environmental Protection Agency (EPA).

ACTION: Notice.

SUMMARY: The Environmental Protection Agency is planning to submit a request to renew an existing information collection request (ICR), “EPA's WaterSense Program (Renewal)” (EPA ICR No. 2233.06, OMB Control No. 2040-0272), to the Office of Management and Budget (OMB) for review and approval in accordance with the Paperwork Reduction Act (PRA) (44 U.S.C. 3501 et seq.). Before doing so, EPA is soliciting public comments on specific aspects of the proposed information collection as described below. This is a proposed extension of the ICR, which is currently approved through June 30, 2013. An Agency may not conduct or sponsor and a person is not required to respond to a collection of information unless it displays a currently valid OMB control number.

DATES: Comments must be submitted on or before April 30, 2013.

ADDRESSES: Submit your comments, referencing Docket ID No. EPA-HQ-OW-2006-0408, online using www.regulations.gov (our preferred method), or by email to OW-Docket@epa.gov, or by mail to: U.S. Environmental Protection Agency, EPA Docket Center, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Alicia Marrs, WaterSense Branch, Municipal Support Division, Office of Wastewater Management, Office of Water, U.S. Environmental Protection Agency, Mail Code 4204M, 1200 Pennsylvania Ave. NW., Washington, DC 20460; telephone number: 303-312-6269; fax number: 1-877-876-9101; email address: marrs.alicia@epa.gov.

SUPPLEMENTARY INFORMATION: Supporting documents which explain in detail the information that the EPA will be collecting are available in the public docket for this ICR (Docket ID No. EPA-HQ-OW-2006-0408). The docket can be viewed online at www.regulations.gov or in person at the EPA Docket Center, EPA West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: WaterSense is a voluntary program designed to create self-sustaining markets for water-efficient products and services via a common label. The program provides incentives for manufacturers and builders to design, produce, and market water-efficient products and homes. In addition, the program provides incentives for certified professionals (e.g. certified irrigation auditors, designers, or installation and maintenance professionals) to deliver water-efficient services. The program also encourages consumers and commercial and institutional purchasers of water-using products and systems to choose water-efficient products and use water-efficient practices.

As part of strategic planning efforts, EPA encourages programs to develop meaningful performance measures, set ambitious targets, and link budget expenditures to results. Data collected under this ICR will assist WaterSense in demonstrating results and carrying out evaluation efforts to ensure continual program improvement. In addition, the data will help EPA estimate water and energy savings and inform future product categories and specifications.

Form Numbers:

*Forms not yet finalized in italics.

Partnership Agreement

• Irrigation partners 6100-07

• Promotional partners 6100-06

• Retailers/distributors 6100-12

• Manufacturers 6100-13

• Professional Certifying Organizations 6100-07

• Builders 6100-19

• Licensed Certification Providers 6100-20

• Licensed Certifying Body 6100-13

Annual Reporting Form

• Promotional partners 6100-09

• Manufacturers (separate forms for plumbing and non-plumbing product manufacturers) 6100-09

• Retailers/Distributors 6100-09

• Builders 6100-09

• Professional Certifying Organizations 6100-X1

Provider Quarterly Reporting Form

• Licensed Certification Providers 6100-09

Award Application Form

• Irrigation Partners 6100-17

• Promotional Partners 6100-17

• Manufacturers 6100-17

• Retailers/Distributors 6100-17

• Builders 6100-17

• Licensed Certification Providers 6100-17

• Professional Certifying Organizations 6100-17

Consumer Awareness Survey

• Survey form 6100-X2

Respondents/affected entities: Respondents will consist of WaterSense partners and participants in the consumer survey. WaterSense partners include product manufacturers; professional certifying organizations; retailers; distributors; utilities; federal, state, and local governments; home builders; irrigation professionals; licensed certification providers; and NGOs.

Respondent's obligation to respond: Voluntary.

Estimated number of respondents: EPA estimates the total number of respondents (over 3 years) to be 3,261.

Frequency of response: Once a prospective partner organization reviews WaterSense materials and decides to join the program, it will submit the appropriate Partnership Agreement for its partnership category (this form is only submitted once). Each year, EPA also asks partners to submit an Annual Reporting Form and Awards Application (voluntarily at the partner's discretion). Licensed certification providers for WaterSense-labeled new homes are asked to submit a Provider Quarterly Reporting Form four times each year. EPA also will conduct a Consumer Awareness Survey once over the three-year period of the ICR.

Total estimated burden: 8,926 hours (per year for both respondents and EPA). Burden is defined at 5 CFR 1320.03(b).

Total estimated cost: $699,872 (per year for both respondents and EPA), includes $3,290 annualized capital or operation & maintenance costs.

Changes in Estimates: There is a decrease of 51,420 hours in the estimated burden on respondents (over three years) compared with the ICR currently approved by OMB. There is a decrease of 144,966 hours in the total estimated burden (for respondents and EPA, over three years) compared with the ICR currently approved by OMB. The WaterSense program has been modified and expanded significantly since the current ICR was approved in 2010; however, the program has made efforts over the last several years to reduce the burden for its partners and the Agency. Program changes, including using online forms, eliminating product notification forms for manufacturers, and deciding not to require irrigation partners to report annually have led to significantly reduced operation & maintenance costs and a lower estimated burden. Finally, EPA has a better understanding of how long it takes partners to complete program forms and better historical data to project new partners and forms over the next three years.

Dated: February 22, 2013.
Randolph L. Hill,
Acting Director, Office of Wastewater Management.

[FR Doc. 2013-04817 Filed 2-28-13; 8:45 am]

BILLING CODE 6560-50-P